DEPARTMENT OF HOMELAND SECURITY

Coast Guard

33 CFR Part 165

[Docket No. USCG-2009-1058]

RIN 1625-AA11

Regulated Navigation Area; U.S. Navy Submarines, Hood Canal, WA

AGENCY: Coast Guard, DHS.

ACTION: Final rule.

SUMMARY: The Coast Guard is establishing a regulated navigation area (RNA) covering a portion of the Hood Canal in the State of Washington that will be in effect whenever any U.S. Navy submarine is operating in that area and is being escorted by the Coast Guard. The RNA is necessary to help ensure the safety and security of the submarines, their Coast Guard security escorts, and the maritime public in general. The RNA will do so by requiring all persons and vessels located within the RNA to follow all lawful orders and/or directions given to them by Coast Guard security escort personnel.

DATES: This rule is effective May 18, 2010.

ADDRESSES: Comments and material received from the public, as well as documents mentioned in this preamble as being available in the docket, are part of docket USCG-2009-1058 and are available online by going to http://www.regulations.gov, inserting USCG-2009-1058 in the “Keyword” box, and then clicking “Search.” This material is also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail LT Matthew N. Jones, Staff Attorney, Thirteenth Coast Guard District; telephone 206-220-7155, e-mail Matthew.N.Jones@uscg.mil. If you have questions on viewing or submitting material to the docket, call Renee V. Wright, Program Manager, Docket Operations, telephone 202-366-9826.

SUPPLEMENTARY INFORMATION:

Regulatory Information

On January 13, 2010, we published an interim rule entitled “Regulated Navigation Area; U.S. Navy Submarines, Hood Canal, WA” in the Federal Register (75 FR 1706). We received one comment on the proposed rule that was actually meant for a related interim rule published on the same date at (75 FR 1709). That comment is addressed in the final rule with docket number USCG-2009-1057. No one requested a public meeting and none was held.

Under 5 U.S.C. 553(d)(3), the Coast Guard finds that good cause exists for making this rule effective less than 30 days after publication in the Federal Register because waiting 30 days would be contrary to the public interest since U.S. Navy submarine operations in the Hood Canal are ongoing, making the RNA created by this rule immediately necessary to help ensure the safety and security of the submarines, their Coast Guard security escorts, and the maritime public in general.

Background and Purpose

U.S. Navy submarines frequently operate in the Hood Canal. Due to the numerous safety and security concerns involved with submarine operations near shore in very restricted waters, the Coast Guard provides security escorts of submarines when operating in that area. Security escorts of this type require the Coast Guard personnel on-scene to make quick judgments about the intent of vessels operating in close proximity to the submarines and decide, occasionally with little information about the vessels or persons on board, whether or not they pose a threat to the submarine. The narrow confines of the Hood Canal make this a particularly difficult task as it forces the submarines and their Coast Guard security escorts to frequently come into close quarters contact with the maritime public.

The RNA established by this rule will allow Coast Guard security escort personnel to order and/or direct persons and vessels operating within the RNA to stop, move, change orientation, etc. The ability to do so will help avoid unnecessary and potentially dangerous close quarters contact between Coast Guard security escorts and the maritime public within the Hood Canal. In addition, it will give Coast Guard security escorts an additional tool for determining the intent of vessels that, for whatever reason, are operating too close to an escorted submarine. Both of these effects will help ensure the safety and security of the submarines, their Coast Guard security escorts, and the maritime public in general.

Discussion of Comments and Changes

This rule establishes an RNA covering a portion of the Hood Canal in the State of Washington that will be in effect whenever any U.S. Navy submarine is operating in that area and is being escorted by the Coast Guard. All persons and vessels located within the RNA are required to follow all lawful orders and/or directions given to them by Coast Guard security escort personnel.

No comments were received about this rule. One change to the rule was made to clarify the area covered by the RNA. Specifically, the RNA will cover all waters of Hood Canal, including Dabob Bay, located between two lines with the first line connecting positions 47°37.9′ N, 122°57.1′ W and 47°37.9′ N, 122°52.9′ W and the second line connecting positions 48°00.7′ N, 122°41.0′ W and 47°56.4′ N, 122°36.9′ W.

Regulatory Analyses

We developed this rule after considering numerous statutes and executive orders related to rulemaking. Below we summarize our analyses based on 13 of these statutes or executive orders.

Regulatory Planning and Review

This rule is not a significant regulatory action under section 3(f) of Executive Order 12866, Regulatory Planning and Review, and does not require an assessment of potential costs and benefits under section 6(a)(3) of that Order. The Office of Management and Budget has not reviewed it under that Order.

The Coast Guard has made this determination based on the fact that (1) the RNA is only in effect for the short periods of time when submarines are operating in Hood Canal and being escorted by the Coast Guard and (2) vessels may freely operate within the RNA to the extent permitted by other law or regulation unless given a lawful order and/or direction by Coast Guard security escort personnel.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule will affect the following entities, some of which may be small entities: The owners or operators of vessels intending to transit the RNA when it is in effect. The RNA will not, however, make significant economic impact on a substantial number of small entities because (1) the RNA is only in effect for the short periods of time when submarines are operating in Hood Canal and being escorted by the Coast Guard and (2) vessels may freely operate within the RNA to the extent permitted by other law or regulation unless given a lawful order and/or direction by Coast Guard security escort personnel.

Assistance for Small Entities

Under section 213(a) of the Small Business Regulatory Enforcement Fairness Act of 1996 (Pub. L. 104-121), in the interim rule we offered to assist small entities in understanding the rule so that they could better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

Taking of Private Property

This rule will not cause a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Department of Homeland Security Management Directive 023-01 and Commandant Instruction M16475.lD, which guide the Coast Guard in complying with the National Environmental Policy Act of 1969 (NEPA) (42 U.S.C. 4321-4370f), and have concluded this action is one of a category of actions that do not individually or cumulatively have a significant effect on the human environment. This rule is categorically excluded, under figure 2-1, paragraph (34)(g), of the Instruction. This rule involves the establishment of a regulated navigation area. An environmental analysis checklist and a categorical exclusion determination are available in the docket where indicated under ADDRESSES.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191, 195; 33 CFR 1.05-1, 6.04-1, 6.04-6, 160.5; Pub. L. 107-295, 116 Stat. 2064; Department of Homeland Security Delegation No. 0170.1.

2. Revise § 165.1328 to read as follows:

§ 165.1328 Regulated Navigation Area; U.S. Navy Submarines, Hood Canal, WA

(a) Location. The following area is a regulated navigation area (RNA): All waters of the Hood Canal in the State of Washington whenever any U.S. Navy submarine is operating in the Hood Canal and is being escorted by the Coast Guard. For purposes of this section, “Hood Canal” means all waters of Hood Canal, including Dabob Bay, located between two lines with the first line connecting positions 47°37.9′ N, 122°57.1′ W and 47°37.9′ N, 122°52.9′ W and the second line connecting positions 48°00.7′ N, 122°41.0′ W and 47°56.4′ N, 122°36.9′ W

(b) Regulations. All persons and vessels located within the RNA created by paragraph (a) of this section shall follow all lawful orders and/or directions given to them by Coast Guard security escort personnel. 33 CFR Section 165, Subpart B, contains additional provisions applicable to the RNA created in paragraph (a) of this section.

(c) Notification. The Coast Guard security escort will attempt, when necessary and practicable, to notify any persons or vessels in the RNA created in paragraph (a) of this section of its existence via VHF Channel 16 and/or any other means reasonably available.

Dated: April 25, 2010.
G.T. Blore,
Rear Admiral, U.S. Coast Guard Commander, Thirteenth Coast Guard District.

[FR Doc. 2010-11262 Filed 5-17-10; 8:45 am]

BILLING CODE 9110-04-P